DEPARTMENT OF TRANSPORTATION

Federal Aviation Administration

14 CFR Part 71

[Docket No. FAA-2024-2679; Airspace Docket No. 24-AAL-110]

RIN 2120-AA66

Revocation of Colored Federal Airway Green 6 (G-6) and Alaskan Very High Frequency Omnidirectional Range Federal Airways V-459 and V-496 in Alaska

AGENCY: Federal Aviation Administration (FAA), DOT.

ACTION: Final rule.

SUMMARY: This action revokes Colored Federal Airway Green 6 (G-6) and Alaskan Very High Frequency Omnidirectional Range (VOR) Federal Airways V-459 and V-496 in Alaska. The identifier V-459 is also used for a VOR Federal Airway in California. This action revokes the Alaskan V-459, not the V-459 in California. The FAA is taking this action due to the pending decommissioning of the St. Marys, AK, Nondirectional Radio Beacon (NDB) and the Aniak, AK, NDB.

DATES: Effective date 0901 UTC, October 2, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from the Office of the Federal Register's website at www.federalregister.gov.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published an NPRM for Docket No. FAA-2024-2679 in the Federal Register (90 FR 8510; January 30, 2025), proposing to revoke Colored Federal Airway G-6 and Alaskan VOR Federal Airways V-459 and V-496 in Alaska. Interested parties were invited to participate in this rulemaking effort by submitting written comments on the proposal to the FAA. One comment was received regarding the decommissioning of the St. Marys and Aniak NDBs. The commenter stated that these NDBs and the airways they support are a cheap and reliable form of navigation and raises the concern that removing NDBs creates a danger to affected communities in the event of Global Positioning System (GPS) outages.

The FAA recognizes the need to maintain a reliable source of navigation to aviation-dependent Alaskan villages and is developing a resiliency plan to support navigation in the event of GPS unreliability. The concerns raised by the comment received are recognized as legitimate, but are not applicable to this rulemaking action as non-GPS mitigations are in place in the area and at the affected airports.

The planned decommissioning of Aniak (PANI) and St. Mary's (PASM) NDBs caused the revocation of G-6, V-459, and V-496; however, there are adequate remaining navigational aid (NAVAID)-based airways in the area (V-480, V-350, and V-496) for use by aircraft not equipped with GPS. Non-GPS instrument approach procedures also are in place at PASM and PANI and will remain after the decommissioning of the St. Marys and Aniak NDBs. Specifically, decommissioning the NDBs will cause amendments to the PASM localizer (LOC) Runway 17 and the PANI instrument landing system (ILS) or LOC Runway 11 procedures, but not cancellation. Therefore, the decommissioning of St. Marys and Aniak NDBs and the revocation of G-6, V-459, and V-496 will have no impact to non-GPS flights in the area.

Incorporation by Reference

Colored Federal Airways are published in paragraph 6009 and Alaskan VOR Federal Airways are published in paragraph 6010 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

The FAA is amending 14 CFR part 71 by revoking Colored Federal Airway Green (G-6) and Alaskan VOR Federal Airways V-459 and V-496 in Alaska. The FAA is proposing these actions due to the pending decommissioning of the St. Marys, AK, NDB and the Aniak, AK, NDB.

G-6: Prior to this rule, G-6 extended between the St. Marys, AK, NDB and the Aniak, AK, NDB. Due to the pending decommissioning of both NDBs, the FAA is revoking G-6 in its entirety.

V-459: Prior to this rule, V-459 in Alaska extended between the Emmonak, AK, VOR/distance measuring equipment (DME) and the St. Marys, AK, NDB. Due to the pending decommissioning of the St. Marys NDB, the FAA is revoking the Alaskan V-459 in its entirety. This action does not propose any changes to the V-459 in California.

V-496: Prior to this rule, V-496 extended between the Hooper Bay, AK, VOR/DME and the St. Marys, AK, NDB. Due to the pending decommissioning of the St. Marys NDB, the FAA is revoking V-496 in its entirety.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of revoking Colored Federal Airway G-6 and Alaskan VOR Federal Airways V-459 and V-496 in Alaska qualifies for categorical exclusion under the National Environmental Policy Act (42 U.S.C. 4321, et seq.) and in accordance with FAA Order 1050.1F, “Environmental Impacts: Policies and Procedures,” paragraph 5-6.5.a which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11J, Airspace Designations and Reporting Points, dated July 31, 2024, and effective September 15, 2024, is amended as follows:

Paragraph 6009(a). Green Federal Airways.

* * * * *

G-6 [Removed]

* * * * *

Paragraph 6010(b). Alaskan VOR Federal Airways.

* * * * *

V-459 [Removed]

* * * * *

V-496 [Removed]

* * * * *

Issued in Washington, DC, on July 10, 2025.
Brian Eric Konie,
Manager (A), Rules and Regulations Group.

[FR Doc. 2025-13103 Filed 7-11-25; 8:45 am]

BILLING CODE 4910-13-P